Proclamation 9900 of May 31, 2019

National Homeownership Month, 2019

By the President of the United States of America

A Proclamation

During National Homeownership Month, we acknowledge the benefits of sustainable homeownership. Homeownership continues to be an important option for many Americans to invest in their communities, build wealth, and achieve the American Dream.

My Administration's economic policies have helped spur a booming economy, in which nearly 6 million new jobs have been created and wages are rising at the fastest rate in a decade. We have slashed more than 30,000 pages of job-killing regulations from the rule book that had been constraining economic growth, and my Tax Cuts and Jobs Act has put more money into the pockets of American workers. These successes have led to more opportunities for Americans to become homeowners, and we are committed to building on them by continuing to work with State and local governments to remove burdensome and unnecessary regulations that restrict development and artificially raise housing costs.

To offer the opportunity for more sustainable homeownership to a greater number of Americans, we must also reform our Nation's housing finance system. Earlier this year, I signed a Presidential Memorandum instructing the Secretaries of the Treasury and Housing and Urban Development to construct a plan on reforming the housing finance system to promote competition in the housing finance market that will also preserve the 30-year, fixed-rate mortgage for qualified homebuyers. These reforms are critical to improving access to sustainable mortgages and to maintaining responsible support for homeownership and for building wealth.

This month, we reaffirm our commitment to empowering more Americans with the opportunity to take the important step of becoming homeowners. By keeping taxes low, continuing to remove burdensome and unnecessary regulations, and making much-needed reforms to the housing finance system, we will open doors to sustainable homeownership to more Americans and their families.

NOW, THEREFORE, I, DONALD J. TRUMP, President of the United States of America, by virtue of the authority vested in me by the Constitution and the laws of the United States, do hereby proclaim June 2019 as National Homeownership Month.

IN WITNESS WHEREOF, I have hereunto set my hand this thirty-first day of May, in the year of our Lord two thousand nineteen, and of the Independence of the United States of America the two hundred and forty-third.

[FR Doc. 2019-11984

Filed 6-4-19; 11:15 am]

Billing code 3295-F9-P